SECURITIES AND EXCHANGE COMMISSION

[Release No. 34-62625; File No. SR-NYSEArca-2010-70]

Self-Regulatory Organizations; NYSE Arca, Inc.; Notice of Filing and Immediate Effectiveness of Proposed Rule Change Adding 75 Options Classes to the Penny Pilot Program

August 2, 2010.

Pursuant to Section 19(b)(1) of the Securities Exchange Act of 1934 (the “Act”),¹, and Rule 19b-4 thereunder,² notice is hereby given that on July 20, 2010, NYSE Arca, Inc. (“NYSE Arca” or the “Exchange”) filed with the Securities and Exchange Commission (the “Commission”) the proposed rule change as described in Items I, II, and III below, which Items have been prepared by the self-regulatory organization. The Commission is publishing this notice to solicit comments on the proposed rule change from interested persons.

¹ 15 U.S.C. 78s(b)(1).

² 17 CFR 240.19b-4.

I. Self-Regulatory Organization's Statement of the Terms of Substance of the Proposed Rule Change

The Exchange proposes to designate 75 options classes to be added to the Penny Pilot Program for Options (“Penny Pilot” or “Pilot”) on August 2, 2010. The text of the proposed rule change is attached as Exhibit 5 to the 19b-4 form.³ A copy of this filing is available on the Exchange's Web site at http://www.nyse.com, at the Exchange's principal office, and at the Commission's Public Reference Room.

³ The Commission notes that there are no changes to the rule text and no exhibit 5 was attached to the form 19b-4.

II. Self-Regulatory Organization's Statement of the Purpose of, and Statutory Basis for, the Proposed Rule Change

In its filing with the Commission, the self-regulatory organization included statements concerning the purpose of, and basis for, the proposed rule change and discussed any comments it received on the proposed rule change. The text of those statements may be examined at the places specified in Item IV below. The Exchange has prepared summaries, set forth in Sections A, B, and C below, of the most significant parts of such statements.

A. Self-Regulatory Organization's Statement of the Purpose of, and the Statutory Basis for, the Proposed Rule Change

1. Purpose

NYSE Arca proposes to identify the next 75 options classes to be added to the Penny Pilot effective August 2, 2010. The Exchange recently received approval to extend and expand the Pilot through December 31, 2010.⁴ In that filing, the Exchange had proposed expanding the Pilot on a quarterly basis to add the next 75 most actively traded multiply listed options classes based on national average daily volume for the six months prior to selection, closing under $200 per share on the Expiration Friday prior to expansion, except that the month immediately preceding their addition to the Penny Pilot will not be used for the purpose of the six month analysis.⁵

⁴ See Exchange Act Release No. 60711 (September 23, 2009), 74 FR 49419 (September 28, 2009) (order approving SR-NYSEArca-2009-44).

⁵ Index products would be included in the expansion if the underlying index level was under 200.

NYSE Arca proposes adding the following 75 options classes to the Penny Pilot on August 2, 2010, based on national average daily volume from January 1, 2010 through June 30, 2010:

Nat'l ranking | Symbol | Security name | Nat'l ranking | Symbol | Security name
199 | MBI | MBIA Inc | 316 | CB | Chubb Corp.
205 | MA | Mastercard Inc | 320 | ADM | Archer-Daniels-Midland Co.
224 | ATPG | ATP Oil & Gas Corp/United States | 322 | HSY | Hershey Co/The.
226 | YUM | Yum! Brands Inc | 323 | TXT | Textron Inc.
232 | RCL | Royal Caribbean Cruises Ltd | 324 | GGP | General Growth Properties Inc.
238 | BPOP | Popular Inc | 325 | NOV | National Oilwell Varco Inc.
248 | EK | Eastman Kodak Co | 326 | TWX | Time Warner Inc.
252 | CNX | Consol Energy Inc | 327 | XOP | SPDR S&P Oil & Gas Exploration & Production ETF.
260 | DCTH | Delcath Systems Inc | 328 | MYL | Mylan Inc/PA.
274 | MTG | MGIC Investment Corp | 329 | TSO | Tesoro Corp.
277 | PXP | Plains Exploration & Production Co | 330 | CI | CIGNA Corp.
278 | GPS | Gap Inc/The | 331 | ESI | ITT Educational Services Inc.
280 | TSL | Trina Solar Ltd | 332 | NKE | NIKE Inc.
282 | EWW | iShares MSCI Mexico Investable Market Index Fund | 335 | FIS | Fidelity National Information Services Inc.
283 | CRM | Salesforce.com Inc | 336 | SUN | Sunoco Inc.
286 | SWN | Southwestern Energy Co | 338 | BBBY | Bed Bath & Beyond Inc.
287 | HBAN | Huntington Bancshares Inc/OH | 340 | APWR | A-Power Energy Generation Systems Ltd.
288 | EOG | EOG Resources Inc | 341 | FWLT | Foster Wheeler AG.
290 | APA | Apache Corp | 342 | LNC | Lincoln National Corp.
291 | VVUS | Vivus Inc | 343 | RSH | RadioShack Corp.
292 | JDSU | JDS Uniphase Corp | 344 | TYC | Tyco International Ltd.
293 | ACI | Arch Coal Inc | 345 | CL | Colgate-Palmolive Co.
294 | NE | Noble Corp | 346 | FXP | ProShares UltraShort FTSE/Xinhua China 25.
296 | BAX | Baxter International Inc | 347 | NTAP | NetApp Inc.
297 | ADSK | Autodesk Inc | 348 | SO | Southern Co.
299 | KRE | SPDR KBW Regional Banking ETF | 349 | PHM | Pulte Group Inc.
300 | XL | XL Group Plc | 350 | HOT | Starwood Hotels & Resorts Worldwide Inc.
302 | WLT | Walter Energy Inc | 351 | QLD | ProShares Ultra QQQ.
303 | IBN | ICICI Bank Ltd | 352 | VRSN | VeriSign Inc.
305 | EWY | iShares MSCI South Korea Index Fund | 353 | PCL | Plum Creek Timber Co Inc.
306 | WHR | Whirlpool Corp | 354 | NBR | Nabors Industries Ltd.
307 | BHI | Baker Hughes Inc | 355 | ESRX | Express Scripts Inc.
308 | KMP | Kinder Morgan Energy Partners LP | 356 | ACAS | American Capital Ltd.
309 | MRO | Marathon Oil Corp | 357 | XLNX | Xilinx Inc.
310 | AGO | Assured Guaranty Ltd | 358 | DO | Diamond Offshore Drilling Inc.
311 | GIS | General Mills Inc | 359 | CMA | Comerica Inc.
312 | ANR | Alpha Natural Resources Inc | 360 | KEY | KeyCorp.
314 | GENZ | Genzyme Corp

2. Statutory Basis

The Exchange believes the proposed rule change is consistent with and furthers the objectives of Section 6(b)(5) of the Act, in that it is designed to promote just and equitable principles of trade, remove impediments to and perfect the mechanisms of a free and open market and a national market system and, in general, to protect investors and the public interest, by identifying the options classes to be added to the Pilot in a manner consistent with prior approvals and filings.

B. Self-Regulatory Organization's Statement on Burden on Competition

The Exchange does not believe that the proposed rule change will impose any burden on competition that is not necessary or appropriate in furtherance of the purposes of the Act.

C. Self-Regulatory Organization's Statement on Comments on the Proposed Rule Change Received From Members, Participants or Others

No written comments were solicited or received with respect to the proposed rule change.

III. Date of Effectiveness of the Proposed Rule Change and Timing for Commission Action

The proposed rule change is effective upon filing pursuant to Section 19(b)(3)(A)(i) ⁶ of the Act and Rule 19b-4(f)(1) ⁷ thereunder, in that it constitutes a stated policy, practice, or interpretation with respect to the meaning, administration, or enforcement of an existing rule of the Exchange. At any time within 60 days of the filing of the proposed rule change, the Commission may summarily abrogate such rule change if it appears to the Commission that the action is necessary or appropriate in the public interest, for the protection of investors, or otherwise in furtherance of the purposes of the Act.

⁶ 15 U.S.C. 78s(b)(3)(A)(i).

⁷ 17 CFR 240.19b-4(f)(1).

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml); or

• Send an e-mail to rule-comments@sec.gov. Please include File Number SR-NYSEArca-2010-70 on the subject line.

Paper Comments

• Send paper comments in triplicate to Elizabeth M. Murphy, Secretary, Securities and Exchange Commission, 100 F Street, NE., Washington DC 20549-1090.

All submissions should refer to File Number SR-NYSEArca-2010-70. This file number should be included on the subject line if e-mail is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for Web viewing and printing in the Commission's Public Reference Room, 100 F Street, NE., Washington, DC 20549, on official business days between the hours of 10 a.m. and 3 p.m. Copies of such filing also will be available for inspection and copying at NYSE Arca's principal office and on its Web site at http://www.nyse.com. All comments received will be posted without change; the Commission does not edit personal identifying information from submissions. You should submit only information that you wish to make available publicly. All submissions should refer to File No. SR-NYSEArca-2010-70 and should be submitted on or before August 31, 2010.

⁸ 17 CFR 200.30-3(a)(12).

For the Commission, by the Division of Trading and Markets, pursuant to delegated authority.⁸
Florence E. Harmon,
Deputy Secretary.

[FR Doc. 2010-19603 Filed 8-9-10; 8:45 am]

BILLING CODE 8010-01-P